DEPARTMENT OF COMMERCE

National Oceanic and Atmospheric Administration

50 CFR Part 665

RIN 0648-AY27

Western Pacific Pelagic Fisheries; American Samoa Longline Gear Modifications To Reduce Turtle Interactions

AGENCY: National Marine Fisheries Service (NMFS), National Oceanic and Atmospheric Administration (NOAA), Commerce.

ACTION: Notice of availability of fishery ecosystem plan amendment; request for comments.

SUMMARY: NMFS announces that the Western Pacific Fishery Management Council (Council) proposes to amend the Fishery Ecosystem Plan for Pelagic Fisheries of the Western Pacific Region (FEP). If approved by the Secretary of Commerce, Amendment 5 would establish gear configuration requirements for the U.S. pelagic longline fishery based in American Samoa. The proposed action is intended to reduce interactions between the fishery and Pacific green sea turtles, which will enable American Samoa longline fishing vessels to continue operations, while providing for the long-term survival, recovery, and sustainability of Pacific green sea turtle populations.

DATES: Comments on Amendment 5, including an environmental assessment, must be received by July 22, 2011.

ADDRESSES: Copies of Amendment 5, including an environmental assessment, identified by 0648-AY27, are available from http://www.regulations.gov, or the Council, 1164 Bishop St., Suite 1400, Honolulu, HI 96813, tel 808-522-8220, fax 808-522-8226, http://www.wpcouncil.org. Comments on the amendment, including the environmental assessment, may be sent to either of the following addresses:

• Electronic Submission: Submit all electronic public comments via the Federal e-Rulemaking Portal http://www.regulations.gov; or

• Mail: Mail written comments to Michael D. Tosatto, Regional Administrator, NMFS, Pacific Islands Region (PIR), 1601 Kapiolani Blvd., Suite 1110, Honolulu, HI 96814-4700.

Instructions: Comments must be submitted to one of the above two addresses to ensure that the comments are received, documented, and considered by NMFS. Comments sent to any other address or individual, or received after the end of the comment period, may not be considered. All comments received are a part of the public record and will generally be posted to http://www.regulations.gov without change. All personal identifying information (e.g., name, address, etc.) submitted voluntarily by the commenter may be publicly accessible. Do not submit confidential business information, or otherwise sensitive or protected information. NMFS will accept anonymous comments (enter “N/A” in the required name and organization fields if you wish to remain anonymous). Attachments to electronic comments will be accepted in Microsoft Word or Excel, WordPerfect, or Adobe PDF file formats only.

FOR FURTHER INFORMATION CONTACT: Adam Bailey, NMFS PIR Sustainable Fisheries Division, 808-944-2248.

SUPPLEMENTARY INFORMATION: Pelagic fisheries in the U.S. western Pacific are managed under the FEP, developed by the Council, and approved and implemented by NMFS. The Council prepared Amendment 5 to address pelagic fishing concerns in American Samoa, and submitted the amendment to NMFS for review under the Magnuson-Stevens Fishery Conservation and Management Act.

The pelagic longline fishery based in American Samoa is predominantly composed of longline vessels over 40 ft (12 m) in length. Longline vessels set 30-50 miles (48-80 km) of monofilament main line and around 3,000 hooks per day. In 2010, 26 vessels made a total of 4,328 sets, and landed about 222,400 albacore (most destined for the Pago Pago cannery), and smaller amounts of skipjack, yellowfin and bigeye tunas. The fishery also takes wahoo, oilfish, blue marlin, blue sharks, and other pelagic fish.

The American Samoa longline fishery occasionally interacts with (hooks or entangles) Pacific green sea turtles (Chelonia mydas), which are listed as threatened under the Endangered Species Act. Most of the interactions occur in near-surface waters, that is, shallower than 100 m, and most injuries to green sea turtles are fatal. To reduce these interactions, the Council proposes to amend the FEP to require longline fishermen to use a suite of gear configurations designed to ensure that longline hooks are set to fish at a depth of 100 meters or deeper, away from the primary turtle habitat.

This action would require fishermen on the large vessels (Classes B, C, and D) to use float lines that are at least 30 meters long, and maintain a distance of 70 m between floats and adjacent branch lines with hooks. Fishermen on these large vessels would be required to deploy at least 15 branch lines with hooks between floats. The possession or landing of more than 10 swordfish, which tend to inhabit near-surface waters, would also be prohibited to help ensure that shallower longline fishing does not occur.

While green sea turtles are expected to benefit from the proposed gear modifications, the action is not expected to change the conduct of the fishery in terms of the number of vessels, areas fished, and fish targeted. Thus, there would not likely be adverse impacts on target and non-target species. No negative impacts are expected on seabirds, marine mammals, essential fish habitat, habitat areas of particular concern, marine protected areas, fishing communities, or safety at sea.

Comments on Amendment 5 must be received by July 22, 2011 to be considered by NMFS in the decision to approve, partially approve, or disapprove the amendment. NMFS soon expects to publish and request public comment on a proposed rule that would implement the measures recommended in Amendment 5.

Authority: 16 U.S.C. 1801 et seq.

Dated: May 17, 2011.
Margo Schulze-Haugen,
Acting Director, Office of Sustainable Fisheries, National Marine Fisheries Service.

[FR Doc. 2011-12648 Filed 5-20-11; 8:45 am]

BILLING CODE 3510-22-P